DEPARTMENT OF COMMERCE

National Oceanic and Atmospheric Administration

Request for Information: Private Remote Sensing Satellite Disposal and Debris Mitigation

AGENCY: National Oceanic and Atmospheric Administration (NOAA), Department of Commerce.

ACTION: Request for information.

SUMMARY: The Commercial Remote Sensing Regulatory Affairs (CRSRA) division of the National Oceanic and Atmospheric Administration's (NOAA's) Office of Space Commerce seeks information from interested parties regarding the condition in every CRSRA license requiring the disposal of on orbit spacecraft in a manner satisfactory to the President. This input is necessary to inform CRSRA's approach to providing additional guidance or initiating a narrow rulemaking pertaining to its disposal condition.

DATES: Submit written comments on or before April 8, 2024.

ADDRESSES: The public may submit written comments on issues addressed in this Notice by either of the following methods:

• Electronic Submission: Submit all electronic public comments via email to space.commerce@noaa.gov.

• Mail: Submit written comments to Office of Space Commerce, Herbert C. Hoover Building, Room 68015, 1401 Constitution Ave. NW, Washington, DC 20230.

Instructions: Comments must be submitted by one of the above methods to ensure that the comments are received, documented, and considered by the Department. Comments sent by any other method, to any other address or individual, or received after the end of the comment period, may not be considered. All comments received are a part of the public record and will generally be posted for public viewing on www.space.commerce.gov without change. All personal identifying information (e.g., name, address) submitted voluntarily by the sender will be publicly accessible. Do not submit confidential business information, or otherwise sensitive or protected information. The Department will accept anonymous comments (enter “N/A” in the relevant fields if you wish to remain anonymous).

FOR FURTHER INFORMATION CONTACT: Sarah Brothers, Commercial Remote Sensing Regulatory Affairs, 1401 Constitution Ave. NW, Room 31027, Washington, DC 20230, sarah.brothers@noaa.gov, (771) 216-4112.

SUPPLEMENTARY INFORMATION:

I. Background

A. Authority for the Supervision of System Disposal

The National Oceanic and Atmospheric Administration (NOAA), Office of Space Commerce (OSC), Commercial Remote Sensing Regulatory Affairs (CRSRA) division, issues licenses for the operation of private space-based remote sensing systems under the jurisdiction of the United States and monitors compliance of licensees to the terms of their license(s), the regulation, and law. CRSRA's authorizing statute, 51 U.S.C. chapter 601 (the Land Remote Sensing Policy Act of 1992), includes a requirement to include in any remote sensing license issued a condition specifying that the licensee shall, upon termination of operations under the license, make disposition of any satellites in space in a manner satisfactory to the President (hereinafter the “subsection (b)(4) license requirement”).

The subsection (b)(4) license requirement includes both the responsible disposal of on-orbit systems at end of life and the mitigation of orbital debris and survivability of such upon reentry. From 2000 to 2020, CRSRA required all applicants for remote sensing licenses to submit to CRSRA a disposal and orbital debris mitigation plan and supervised this element of system operations. CRSRA required these plans to assess and minimize the amount of orbital debris released during post-mission disposal of licensed satellites. CRSRA assessed the submitted plans and determined whether they provided an acceptable post-mission disposal method to mitigate orbital debris and minimize any potential adverse effects.

CRSRA ceased requiring such plans after updating its regulations in 2020. This decision was based upon the observation at the time the regulations were promulgated that nearly all Commerce-licensed systems were also licensed by the Federal Communications Commission (FCC), and FCC licenses already address orbital debris and disposal issues in a comprehensive manner. To avoid duplicative regulation, Commerce opted to defer to FCC license requirements regarding orbital debris and spacecraft disposal, and therefore removed license conditions requiring specific orbital debris or spacecraft disposal practices in final rule. Rather, licenses would simply contain the text required by the Act: That “upon termination of operations under the license, [the licensee shall] make disposition of any satellites in space in a manner satisfactory to the President.” Commerce clarified that until further updates, the disposition manner satisfactory to the President was to follow the relevant FCC license.

At the time, however, Commerce noted that Commerce may issue guidance or undertake a separate, narrow rulemaking to revise the subsection (b)(4) license requirement and clarify the practices required by that condition in response to future needs.

Since the promulgation of the 2020 regulations, CRSRA has observed an increasing number of multinational remote sensing systems, with some licensees electing to receive radiofrequency licenses from other nations while seeking a NOAA remote sensing license in the United States. CRSRA is also sensitive to emerging communications methods not currently licensed by FCC, meaning a satellite using such methods would not be subject to FCC disposal and orbital debris mitigation requirements. While systems with one or both of these characteristics may have disposal and orbital debris mitigation plans approved by foreign radiofrequency authorities, CRSRA seeks to provide guidance on how licensees may satisfy the disposal condition in their CRSRA license.

B. Purpose and Objectives

CRSRA is seeking comments and suggestions from the remote sensing industry to identify whether CRSRA should contemplate issuing:

(1) A narrow rulemaking pertaining to the subsection (b)(4) license requirement that exists in all of its licenses;

(2) A narrow rulemaking pertaining to the subsection (b)(4) requirement for only those satellites without FCC licenses; or

(3) Narrow guidance not rising to the level of a rulemaking for licensees without FCC licenses, to clarify acceptable means of compliance with their existing license condition.

CRSRA is also seeking comments about how any narrow rulemakings or guidance should address existing licenses and what form the rulemaking or guidance should take.

II. Request for Comment

CRSRA welcomes industry comments, questions, and suggestions on matters related to the above discussion. CRSRA would especially appreciate any responses in writing to the following topics:

1. Articulate the benefits and drawbacks of CRSRA clarifying its supervision of remote sensing system disposal and orbital debris mitigation under its existing authority. Articulate how CRSRA's decision to undertake a narrow rulemaking pertaining to all remote sensing systems, a narrow rulemaking only pertaining to licensees not licensed by the FCC, or limited guidance to licensees not licensed by the FCC would impact these benefits and drawbacks.

2. Should CRSRA choose to exercise its existing authority for disposal and orbital debris mitigation, recommend which industry standards and best practices CRSRA should consider when developing the definitions, revised condition language, and disposal and orbital debris mitigation plan assessment.

3. The current subsection (b)(4) license requirement states: “Upon termination of operations under the license, make disposition of any satellites in space in a manner satisfactory to the President.” CRSRA defines termination of operations as (1) to irreversibly render the remote sensing system incapable of being operated; (2) to passivate the system such that it cannot be operated; or (3) to become incapable of operating the system due to its natural end-of-life or anomaly, and to cease attempts to communicate as a result thereof. Comment on whether this definition is complete or omits other means by which operations could terminate.

4. Prior regulations required licensees to “obtain approval from the Assistant Administrator of all plans and procedures for the disposition of satellites as part of the application process” in order to “make disposition of a satellite in space.” Former 15 CFR 960.11(b)(12) (2006). Under this requirement, CRSRA approved disposal plans including atmospheric re-entry, maneuvering to a storage orbit, or direct retrieval. Comment if this list remains comprehensive or if additional means or methods of disposal should be considered.

5. Recommend the type and content of documentation regarding disposal and orbital debris mitigation plans CRSRA should require to be submitted should CRSRA choose to exercise its existing authority for disposal and orbital debris mitigation.

6. Describe if there are disposal and orbital debris mitigation considerations that are unique to remote sensing systems (meaning they may not exist for other types of space systems) or that are of higher importance or priority for remote sensing systems than other types of space systems.

7. Recommend methods by which CRSRA could verify compliance with the license requirement to make disposition of satellites.

Please note that this is a request for information (RFI) only. In accordance with the implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter, other than that necessary for self-identification, as a condition of the agency's full consideration, are not generally considered information collections and therefore not subject to the PRA.

Richard DalBello,
Director.

[FR Doc. 2024-05004 Filed 3-7-24; 8:45 am]

BILLING CODE 3511-43-P